DEPARTMENT OF THE TREASURY

Office of the Comptroller of the Currency

[Docket ID OCC-2018-0005]

Meeting of the Mutual Savings Association Advisory Committee

AGENCY: Office of the Comptroller of the Currency (OCC), Department of the Treasury.

ACTION: Notice of Federal Advisory Committee meeting.

SUMMARY: The OCC announces a meeting of the Mutual Savings Association Advisory Committee (MSAAC).

DATES: A public meeting of the MSAAC will be held on Wednesday, March 21, 2018, beginning at 8:30 a.m. Eastern Daylight Time (EDT).

ADDRESSES: The OCC will hold the March 21, 2018 meeting of the MSAAC at the OCC's offices at 400 7th Street SW, Washington, DC 20219.

FOR FURTHER INFORMATION CONTACT: Michael R. Brickman, Deputy Comptroller for Thrift Supervision, (202) 649-5420, Office of the Comptroller of the Currency, Washington, DC 20219.

SUPPLEMENTARY INFORMATION: By this notice, the OCC is announcing that the MSAAC will convene a meeting on Wednesday, March 21, 2018, at the OCC's offices at 400 7th Street SW, Washington, DC 20219. The meeting is open to the public and will begin at 8:30 a.m. EDT. The purpose of the meeting is for the MSAAC to advise the OCC on regulatory or other changes the OCC may make to ensure the health and viability of mutual savings associations. The agenda includes a discussion of current topics of interest to the industry.

Members of the public may submit written statements to the MSAAC. The OCC must receive written statements no later than 5:00 p.m. EDT on Wednesday, March 14, 2018. Members of the public may submit written statements to MSAAC@occ.treas.gov or by mailing them to Michael R. Brickman, Designated Federal Officer, Mutual Savings Association Advisory Committee, Office of the Comptroller of the Currency, 400 7th Street SW, Washington, DC 20219.

Members of the public who plan to attend the meeting should contact the OCC by 5:00 p.m. EDT on Wednesday, March 14, 2018, to inform the OCC of their desire to attend the meeting and to provide information that will be required to facilitate entry into the meeting. Members of the public may contact the OCC via email at MSAAC@OCC.treas.gov or by telephone at (202) 649-5420. Members of the public who are deaf or hearing impaired should call (202) 649-5597 (TTY) by 5:00 p.m. EDT on Wednesday, March 14, 2018, to arrange auxiliary aids such as sign language interpretation for this meeting.

Attendees should provide their full name, email address, and organization, if any. For security reasons, attendees will be subject to security screening procedures and must present a valid government-issued identification to enter the building.

Dated: February 26, 2018.
Joseph M. Otting,
Comptroller of the Currency.

[FR Doc. 2018-04270 Filed 3-1-18; 8:45 am]

BILLING CODE 4810-33-P